DEPARTMENT OF HEALTH AND HUMAN SERVICES

Centers for Disease Control and Prevention

Request for Nominations of Candidates To Serve on the Advisory Committee to the Director, Centers for Disease Control and Prevention

The Centers for Disease Control and Prevention (CDC) is soliciting nominations for possible membership on the Advisory Committee to the Director, Centers for Disease Control and Prevention (ACD, CDC). This committee consists of 15 experts in fields related to health policy, public health, global health, preparedness, preventive medicine, the faith-based and community-based sector, and allied fields who are selected by the Secretary of the U.S. Department of Health and Human Services (HHS). The committee advises the HHS Secretary and the CDC Director concerning policy and broad strategies that will enable CDC to fulfill its mission of protecting health through health promotion, prevention, and preparedness. The committee recommends ways to prioritize CDC's activities, improve results, and address health disparities. It also provides guidance to help CDC work more effectively with its various private and public sector constituents to make health protection a practical reality.

Nominations are being sought for individuals who have expertise and qualifications necessary to contribute to the accomplishment of the committee's mission. Nominees will be selected by the HHS Secretary or designee from authorities knowledgeable in the fields of public health as well as from the general public. Members may be invited to serve for terms of up to four years.

The U.S. Department of Health and Human Services policy stipulates that committee membership shall be balanced in terms of professional training and background, points of view represented, and the committee's function. In addition to a broad range of expertise, consideration is given to a broad representation of geographic areas within the U.S., with diverse representation of both genders, ethnic and racial minorities, lesbian, gay, bisexual, and transgender and persons with disabilities. Nominees must be U.S. citizens, and cannot be full-time employees of the U.S. Government.

Candidates should submit the following items:

• Current curriculum vitae, including complete contact information (name, affiliation, mailing address, telephone number, email address);

• A letter of recommendation stating the qualifications of the candidate.

Nomination materials must be postmarked by August 31, 2014, and sent to: Gayle Hickman, Office of the Chief of Staff, Centers for Disease Control and Prevention, 1600 Clifton Road, NE., Mailstop D14, Atlanta, Georgia 30333, telephone (404) 639-7158.

The Director, Management Analysis and Services Office, has been delegated the authority to sign Federal Register notices pertaining to announcements of meetings and other committee management activities for both the Centers for Disease Control and Prevention, and the Agency for Toxic Substances and Disease Registry.

Elaine L. Baker,
Director, Management Analysis and Services Office, Centers for Disease Control and Prevention.

[FR Doc. 2014-17736 Filed 7-28-14; 8:45 am]

BILLING CODE 4163-18-P